ENVIRONMENTAL PROTECTION AGENCY

[ER-FRL-9030-9]

Environmental Impact Statements; Notice of Availability

Responsible Agency: Office of Federal Activities, General Information (202) 564-7146 or http://www.epa.gov/nepa.

Weekly receipt of Environmental Impact Statements (EISs) Filed 12/12/2016 Through 12/16/2016

Pursuant to 40 CFR 1506.9.

Notice

Section 309(a) of the Clean Air Act requires that EPA make public its comments on EISs issued by other Federal agencies. EPA's comment letters on EISs are available at: http://www.epa.gov/compliance/nepa/eisdata.html.

EIS No. 20160309, Final, BOEM, AK, Cook Inlet Planning Area Oil and Gas Lease Sale 244, Review Period Ends: 01/23/2017, Contact: Sharon Randall 907-334-5200

EIS No. 20160310, Final, FRA, NAT, NEC FUTURE: A Rail Investment Plan for the Northeast Corridor Tier 1, Review Period Ends: 01/31/2017, Contact: Rebecca Reyes-Alicea 212-668-2282

EIS No. 20160311, Draft, USACE, NE, Missouri River Recovery Management Plan, Comment Period Ends: 02/24/2017, Contact: Aaron Quinn 402-995-2669

Dated: December 20, 2016.
Dawn Roberts,
Management Analyst, NEPA Compliance Division, Office of Federal Activities.

[FR Doc. 2016-31046 Filed 12-22-16; 8:45 am]

BILLING CODE 6560-50-P